DEPARTMENT OF ENERGY

Federal Energy Regulatory Commission

18 CFR Part 101

[Docket No. RM04-12-000]

Accounting and Financial Reporting for Public Utilities Including RTOs; Correction

March 30, 2007.

AGENCY: Federal Energy Regulatory Commission, DOE.

ACTION: Final rule: notice of correction.

SUMMARY: On December 16, 2005, the Commission issued a Final Rule amending the accounting and financial reporting requirements for public utilities. The Commission is issuing a notice correcting certain plant-related line references in one of its schedules for FERC Form No. 1 and correcting the quarterly and annual designations for three other schedules that were all included in Appendix B of the order.

DATES: Effective March 30, 2007.

FOR FURTHER INFORMATION CONTACT: John Okrak (Technical Information), Division of Financial Regulation, Federal Energy Regulatory Commission, 888 First Street, NE., Washington, DC 20426, (202) 502-8280.

SUPPLEMENTARY INFORMATION:

Notice of Correction

On December 16, 2005, the Commission issued Order No. 668,¹ amending the accounting and financial reporting requirements for public utilities. Certain general plant-related line references included on page 206 of the FERC Form No. 1 that were not revised by Order No. 668 were inadvertently deleted from the revised Electric Plant In Service schedule included in Appendix B to the order. Additionally, pages 231, 331, and 400a were inadvertently designated as annual reporting schedules in Appendix B, instead of their proper designation as both quarterly and annual reporting schedules.

¹ Accounting and Financial Reporting for Public Utilities Including RTOs, Order No. 668, FERC Stats. & Regs. ¶ 31,199 (2005) 113 FERC ¶ 61,276, reh'g denied, Order No. 668-A, FERC Stats. & Regs. ¶ 31,215 (2006), reh'g denied, 115 FERC ¶ 61,080 (2006), 70 FR 77627 (December 30, 2005).

This notice of correction corrects page 206 of the FERC Form No. 1 to include those general plant-related line references inadvertently omitted from the revised schedule.² Additionally, pages 231, 331, and 400a are revised to properly designate them as both quarterly and annual reporting schedules. The corrected pages 206, 231, 331 and 400a are attached to this notice of correction as Appendix A.

² Lines inadvertently omitted were line 95, (398) Miscellaneous Equipment; line 96, Subtotal (Enter Total of lines 86 thru 95); line 97, (399) Other Tangible Property; line 98, (399.1) Asset Retirement Costs for General Plant and line 99, Total General Plant (Enter Total of lines 96, 97 and 98).

Philis J. Posey,
Deputy Secretary.

BILLING CODE 6717-01-P

[FR Doc. E7-6213 Filed 4-4-07; 8:45 am]

BILLING CODE 6717-01-C